DEPARTMENT OF DEFENSE

Department of the Army

Record of Decision for the Construction and Operation of an Infantry Platoon Battle Course at Pōhakuloa Training Area, Hawai`i

AGENCY: Department of the Army, DoD.

ACTION: Notice of availability.

SUMMARY: The U.S. Army Pacific (USARPAC) and U.S. Army Garrison, Hawai`i, (USAG-HI) announce the decision to construct and operate a new Infantry Platoon Battle Course (IPBC) and associated infrastructure at Pōhakuloa Training Area (PTA), Hawai`i. This decision allows the Army to construct and operate an IPBC that will meet Army training requirements and will support the live-fire collective training needs of the Army, Army Reserve, and Hawai`i Army National Guard, as well as other Service components that are stationed or train in Hawai`i.

To comply with the National Environmental Policy Act (NEPA), the Department of the Army prepared an Environmental Impact Statement (EIS) that evaluated the potential environmental and socioeconomic effects associated with alternatives to construct and operate the IPBC. In the Final EIS published in the Federal Register on April 26, 2013 (78 FR 24734), the Army identified the Western Range Alternative as the preferred alternative. The Army has selected the preferred alternative in the Record of Decision (ROD). The Western Range Area Alternative is located in an under-utilized portion of the PTA impact area where no ranges currently exist. The location has been exposed to indirect munitions fire and constructing the IPBC here will reclaim a portion of the impact area. A copy of the ROD can be found at www.garrison.hawaii.army.mil/pta_peis/default.htm.

ADDRESSES: Email requests to obtain a copy of the ROD can be addressed to USARMY.JBSA.AEC.MBX@mail.mil.

FOR FURTHER INFORMATION CONTACT: US Army Environmental Command Public Affairs Office, at 1-855-846-3940 (toll free).

SUPPLEMENTARY INFORMATION: The IPBC will be used to train and test infantry platoons and other units on the skills necessary to conduct collective (group) tactical movement techniques, and to detect, identify, engage, and defeat stationary and moving infantry and armor targets in a tactical array. Soldiers will engage targets with small arms, machine guns, and other weapon systems as part of live-fire exercises. This includes air-ground integration where Soldiers maneuvering on the IPBC can coordinate air support. In addition to live-fire, the range would also be used for training with sub-caliber and/or laser training devices. This type of training is mission essential for Soldiers to be prepared to encounter threats during combat operations overseas.

The Army identified and analyzed environmental and socioeconomic impacts associated with the proposed IPBC in the Final EIS. The major potential environmental impacts are to air quality, threatened and endangered species, cultural sites, encountering munitions and explosives of concern, and igniting wildfires. Significant impacts could occur to cultural resources. Prior to making its decision, the Army considered comments received during the EIS scoping and comment process, and the 30-day waiting period after the Final EIS. The Army's Record of Decision includes the final measures the Army will adopt to avoid, minimize, and mitigate impacts to identified cultural resources.

Brenda S. Bowen,
Army Federal Register Liaison Officer.

[FR Doc. 2013-19815 Filed 8-15-13; 8:45 am]

BILLING CODE 3710-08-P